ENVIRONMENTAL PROTECTION AGENCY

[EPA-R09-OAR-2014-0485; FRL-9914-85-Region 9]

Adequacy Status of Motor Vehicle Emissions Budgets in Submitted 8-Hour Ozone Attainment Plan for Sacramento Metro; California

AGENCY: Environmental Protection Agency.

ACTION: Notice of adequacy.

SUMMARY: The Environmental Protection Agency (EPA) is notifying the public that the Agency has found that the motor vehicle emissions budgets (MVEBs) for ozone for the years 2014, 2017, and 2018 in the Sacramento Regional 8-Hour Ozone Attainment Plan and Reasonable Further Progress Plan, 2013 SIP Revisions (“2013 Sacramento Ozone Plan”) are adequate for transportation conformity purposes. The 2013 Sacramento Ozone Plan was submitted to EPA on December 31, 2013 by the California Air Resources Board (CARB) as a revision to the California State Implementation Plan (SIP) and includes an attainment demonstration for the 1997 8-hour ozone national ambient air quality standard. Upon the effective date of this notice of adequacy, the Sacramento Area Council of Governments and the U.S. Department of Transportation must use the MVEBs for future conformity determinations.

DATES: This finding is effective August 25, 2014.

FOR FURTHER INFORMATION CONTACT: John Ungvarsky, U.S. EPA, Region IX, Air Division AIR-2, 75 Hawthorne Street, San Francisco, CA 94105-3901, (415) 972-3963 or ungvarsky.john@epa.gov.

SUPPLEMENTARY INFORMATION: Throughout this document, whenever “we,” “us,” or “our” is used, we mean EPA.

Today's notice is simply an announcement of a finding that we have already made. EPA sent a letter to CARB on July 25, 2014 stating that the MVEBs for oxides of nitrogen (NOX) and volatile organic compounds (VOCs) in the submitted 2013 Sacramento Ozone Plan for the years of 2014, 2017, and 2018 are adequate. The adequate MVEBs are provided in the following table:

Motor Vehicle Emissions Budgets in the 2013 Sacramento Ozone Plan
Budget year | NOX: 2014 | NOX: 2017 | NOX: 2018 | VOC: 2014 | VOC: 2017 | VOC: 2018
Tons per average summer weekday | 49 | 39 | 37 | 23 | 18 | 17

Receipt of the MVEBs in the 2013 Sacramento Ozone Plan was announced on EPA's transportation conformity Web site on May 20, 2014. We received no comments in response to the adequacy review posting. The finding is available at EPA's transportation conformity Web site: http://www.epa.gov/otaq/stateresources/transconf/adequacy.htm.

Transportation conformity is required by Clean Air Act section 176(c). EPA's conformity rule requires that transportation plans, transportation improvement programs, and projects conform to SIPs and establishes the criteria and procedures for determining whether or not they do conform. Conformity to a SIP means that transportation activities will not produce new air quality violations, worsen existing violations, or delay timely attainment of the national ambient air quality standards.

The criteria by which we determine whether a SIP's MVEBs are adequate for conformity purposes are outlined in 40 CFR 93.118(e)(4) which was promulgated in our August 15, 1997 final rule (62 FR 43780, 43781-43783). We have further described our process for determining the adequacy of submitted SIP budgets in our July 1, 2004 final rule (69 FR 40004, 40038), and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: July 25, 2014.
Jared Blumenfeld,
Regional Administrator, Region IX.

[FR Doc. 2014-18819 Filed 8-7-14; 8:45 am]

BILLING CODE 6560-50-P